EXPORT-IMPORT BANK

Notice of Open Special Meeting of the Sub-Saharan Africa Advisory Committee of the Export-Import Bank of the United States (Ex-Im Bank)

SUMMARY: The Sub-Saharan Africa Advisory Committee was established by Public Law 105-121, November 26, 1997, to advise the Board of Directors on the development and implementation of policies and programs designed to support the expansion of the Bank's financial commitments in Sub-Saharan Africa under the loan, guarantee, and insurance programs of the Bank. Further, the Committee shall make recommendations on how the Bank can facilitate greater support by U.S. commercial banks for trade with Sub-Saharan Africa.

Time and Place: Wednesday, May 15, 2013, between 11:00 a.m. and 3:00 p.m. A break for lunch will be at the expense of the attendee. Security processing will be necessary for reentry into the building. The meeting will be held at Ex-Im Bank in the Main Conference Room 327, 811 Vermont Avenue NW., Washington, DC 20571.

Agenda: Presentation on recent developments in Sub-Saharan Africa markets by Ex-Im Bank staff; an update on the Bank's on-going business development initiatives in the region; and Committee discussion of current challenges and opportunities for U.S. exporters.

Public Participation: The meeting will be open to public participation and the last 10 minutes will be set aside for oral questions or comments. Members of the public may also file written statement(s) before or after the meeting. If you plan to attend, a photo ID must be presented at the guard's desk as part of the clearance process into the building and you may contact Exa Richards to be placed on an attendee list. If any person wishes auxiliary aids (such as a sign language interpreter) or other special accommodations, please contact, prior to May 6, 2013, Exa Richards, 811 Vermont Avenue NW., Washington, DC 20571, (202) 565-3455.

FOR FURTHER INFORMATION CONTACT: For further information, contact Exa Richards, 811 Vermont Avenue NW., Washington, DC 20571, (202) 565-3455.

Sharon Whitt,
Director, Information Quality and Records Management.

[FR Doc. 2013-10454 Filed 5-2-13; 8:45 am]

BILLING CODE 6690-01-P